NATIONAL CREDIT UNION ADMINISTRATION

Notice of Meeting

Time and Date: 10 a.m., Thursday, April 24, 2003.

Place: Board Room, 7th Floor, Room 7047, 1775 Duke Street, Alexandria, VA 22314-3428.

Status: Open.

Matters to be Considered:

1. Quarterly Insurance Fund Report.

2. Request from a Federal Credit Union to Expand its Community Charter.

3. Requests from two (2) Federal Credit Unions to Convert to Community Charters.

4. Final Rule: Part 741 of NCUA's Rules and Regulations, Overseas Branching by Federally Insured Credit Unions.

5. Final Rule: Part 740 of NCUA's Rules and Regulations, Advertising.

6. Final Rule: Section 701.19 of NCUA's Rules and Regulations, Retirement Benefits for Federal Credit Union Employees.

For Further Information Contact: Becky Baker, Secretary of the Board, Telephone: 703-518-6304.

Becky Baker,
Secretary of the Board.

[FR Doc. 03-9927 Filed 4-17-03; 12:49 pm]

BILLING CODE 7535-01-M